DEPARTMENT OF COMMERCE

Bureau of Industry and Security

Agency Information Collection Activities; Submission to the Office of Management and Budget (OMB) for Review and Approval; Comment Request; Miscellaneous Short Supply Activities

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 19, 2024, during a 60-day comment period. This notice allows for an additional 30 days for public comments.

Agency: Bureau of Industry and Security, Commerce.

Title: Miscellaneous Short Supply Activities.

OMB Control Number: 0694-0102.

Form Number(s): None.

Type of Request: Regular submission, extension of a current information collection.

Number of Respondents: 2.

Average Hours per Response: 100.5 hours.

Burden Hours: 201.

Needs and Uses: This information collection comprises two rarely used short supply activities: “Registration of U.S. Agricultural Commodities for Exemption from Short Supply Limitations on Export (USAG)”, and “Petitions for the Imposition of Monitoring or Controls on Recyclable Metallic Materials; Public Hearings (Petitions).” Under provisions of sections 754.6 and 754.7 of the Export Administration Regulations (EAR), agricultural commodities of U.S. origin purchased by or for use in a foreign country and stored in the United States for export at a later date may voluntarily be registered with the Bureau of Industry and Security for exemption from any quantitative limitations on export that may subsequently be imposed under the EAR for reasons of short supply.

Affected Public: Business or other for-profit organizations.

Frequency: On Occasion.

Respondent's Obligation: Voluntary.

Legal Authority: 754.6 and 754.7 of the Export Administration Regulations (EAR).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0102.

Sheleen Dumas,
Department PRA Clearance Officer, Office of the Under Secretary for Economic Affairs, Commerce Department.

[FR Doc. 2024-19301 Filed 8-27-24; 8:45 am]

BILLING CODE 3510-33-P